DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Survey of Fish Processors and Business Disruptions Caused by Hurricane Sandy.

OMB Control Number: None.

Form Number(s): NA.

Type of Request: Regular submission (request for a new information collection).

Number of Respondents: 43 (annualized to 14).

Average Hours per Response: 1 hour and 30 minutes.

Burden Hours: 65 (annualized to 22).

Needs and Uses: This request is for a new information collection.

The Northeast Fisheries Science Center's Social Sciences Branch seeks to collect data on distribution networks and business practices from fish processors that process groundfish and sea scallops in the Northeast United States. It also seeks to collect data on business disruptions due to Hurricane Sandy for those firms. The data collected will improve research and analysis on the economic impacts of potential fishery management actions, consistent with the Magnuson-Stevens Fishery Conservation and Management Act, the National Environmental Protection Act, and Presidential Executive Order 12866.

Affected Public: Business or other for-profit organizations.

Frequency: One time.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: October 29, 2013.
Gwellnar Banks,
Management Analyst, Office of the Chief Information Officer.

[FR Doc. 2013-26274 Filed 11-1-13; 8:45 am]

BILLING CODE 3510-22-P